DEPARTMENT OF THE INTERIOR

Bureau of Land Management

[LLCO922000-L13100000-FI0000-19X]

Notice of Proposed Reinstatement of Terminated Oil and Gas Lease COC75893, Colorado

AGENCY: Bureau of Land Management, Interior.

ACTION: Notice of reinstatement.

SUMMARY: As provided for under the Mineral Leasing Act of 1920, as amended, the Bureau of Land Management (BLM) received a petition for reinstatement of competitive oil and gas lease COC75893 from Griffin Properties Inc. for land in Moffat County, Colorado. The lessee filed the petition on time, along with all rentals due since the lease terminated under the law. No leases affecting these lands were issued before the petition was filed. The BLM proposes to reinstate this lease.

FOR FURTHER INFORMATION CONTACT: Jonathan Fairbairn, Branch Chief, Fluid Minerals, BLM Colorado State Office, 2850 Youngfield Street, Lakewood, CO 80215, phone: (303) 239-3753, email: jfairbairn@blm.gov. Persons who use a telecommunications device for the deaf (TDD) may call the Federal Relay Service (FRS) at 1-800-877-8339 to contact the above individual during normal business hours. The FRS is available 24 hours a day, 7 days a week, to leave a message or questions with the above individual. You will receive a reply during normal business hours.

SUPPLEMENTARY INFORMATION: The lessee agrees to the new lease terms for rentals and royalties of $10 per acre, or fraction thereof, per year, and 16 ⅔ percent, respectively. The lessee paid the required $500 administrative fee for lease reinstatement and the $159 cost of publishing this notice. The lessee met the requirements for reinstatement of the lease per Sec. 31(d) and (e) of the Mineral Leasing Act of 1920 (30 U.S.C. 188). The BLM proposes to reinstate the lease effective April 1, 2016, under amended lease terms and the increased rental and royalty rates described above.

(Authority: 30 U.S.C. 188(e)(4) and 43 CFR 3108.2-3).

Gregory P. Shoop,
Acting BLM Colorado State Director.

[FR Doc. 2018-24862 Filed 11-13-18; 8:45 am]

BILLING CODE 4310-JB-P